INTERNATIONAL TRADE COMMISSION

[Investigation No. 332-580]

COVID-19 Related Goods: The U.S. Industry, Market, Trade, and Supply Chain Challenges; Notice of Institution of Investigation and Scheduling of a Public Hearing

AGENCY: United States International Trade Commission.

ACTION: Notice of institution of investigation and scheduling of a public hearing.

SUMMARY: Following receipt on August 13, 2020, of a joint request from the House Committee on Ways and Means and the Senate Committee on Finance (the Committees), under section 332(g) of the Tariff Act of 1930, the U.S. International Trade Commission (Commission) instituted Investigation No. 332-580, COVID-19 Related Goods: The U.S. Industry, Market, Trade, and Supply Chain Challenges, for the purpose of providing a report that provides detailed information on COVID-related industry sectors and particular products identified in Commission inv. No. 332-576, COVID-19 Related Goods, U.S. Imports and Tariffs.

DATES:

September 11, 2020: Deadline for filing requests to appear at the public hearing.

September 14, 2020: Deadline for filing prehearing briefs and statements.

September 21, 2020: Deadline for filing copies of oral testimony to be presented at the hearing.

September 23, 2020: Public hearing.

September 30, 2020: Deadline for filing post-hearing briefs and statements.

October 2, 2020: Deadline for filing all other written submissions.

December 15, 2020: Transmittal of Commission report to the Committees.

ADDRESSES: All Commission offices are located in the U.S. International Trade Commission Building, 500 E Street SW, Washington, DC. All written submissions should be submitted electronically and addressed to the Secretary, U.S. International Trade Commission, 500 E Street SW, Washington, DC 20436. The public record for this investigation may be viewed on the Commission's electronic docket (EDIS) at https://edis.usitc.gov.

FOR FURTHER INFORMATION CONTACT: Co-Project Leader Samantha DeCarlo (202-205-3165 or samantha.decarlo@usitc.gov) or Co-Project Leader Andrew David (202-205-3368 or andrew.david@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

Background: As requested by the Committees, the Commission will conduct an investigation and prepare a report that provides, to the extent practical, the following information:

• A brief overview of key U.S. industry sectors producing COVID-related goods, including, but not limited to, medical devices; personal protective equipment; and medicines (pharmaceuticals). These overviews should include, to the extent practicable, information on U.S. production, employment, and trade.

• More detailed case studies on key products within each relevant industry sector, such as N95 respirators, ventilators, vaccines, and COVID-19 test kits. The Committees stated that they are particularly interested in case studies on products for which there were reported shortages in the first half of 2020, including those affected by supply chain fragility, blockages, or barriers. The Committees stated that the case studies should draw upon all available information including the relevant literature, and to the extent practicable, should include information on:

○ The U.S. industry, market, and trade, including, to the extent available:

An overview of the product, including key components and the production process;

Information on the size and characteristics of the U.S. market;

An overview of the U.S. manufacturing industry, including key producers of finished goods and intermediate inputs, the extent of U.S. production, and employment;

Information on U.S. imports of finished goods and inputs, including leading source countries and supplying firms (to the extent available); and

○ Information on supply chain challenges and constraints, including, but not limited to:

Information on factors affecting domestic production, including, to the extent practicable, regulatory requirements that may impact entry into the market; and

Information on foreign trade barriers and restrictions and other factors that may affect U.S. imports of finished goods or inputs needed for domestic production.

The Committees asked that the Commission deliver the report no later than December 15, 2020. The Committees stated that they intend to make the Commission's report available to the public and asked that the report not include any confidential business information.

Public Hearing: A public hearing in connection with this investigation will be held beginning at 9:30 a.m. on September 23, 2020, using a videoconference platform. More detailed information about the hearing, including how to participate, will be posted on the Commission's website at (https://usitc.gov/research_and_analysis/what_we_are_working_on.htm). Once on that web page, scroll down to the entry for Investigation No. 332-580, COVID-19 Related Goods: The U.S. Industry, Market, Trade, and Supply Chain Challenges, and click on the link to “Hearing Information.” Interested parties should check the Commission's website periodically for updates.

Requests to appear at the public hearing should be filed with the Secretary no later than 5:15 p.m., September 11, 2020, in accordance with the requirements in the “Written Submissions” section below. All prehearing briefs and statements should be filed not later than 5:15 p.m., September 14, 2020, and all post-hearing briefs and statements should be filed not later than 5:15 p.m., September 30, 2020. Post-hearing briefs and statements should address matters raised at the hearing. To facilitate the hearing, including the preparation of an accurate written transcript of the hearing, oral testimony to be presented at the hearing must be submitted to the Commission electronically no later than the close of business September 21, 2020. In the event that, as of the close of business on September 11, 2020, no witnesses are scheduled to appear at the hearing, the hearing will be canceled.

Written Submissions: In lieu of or in addition to participating in the hearing, interested parties are invited to file written submissions concerning this investigation. All written submissions should be addressed to the Secretary, and should be received not later than 5:15 p.m., October 2, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information: Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committees, the Commission will not include any confidential business information in the report that it sends to the Committees. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel (a) for cybersecurity purposes or (b) in monitoring user activity on U.S. government classified networks. The Commission will not otherwise disclose any confidential business information in a way that would reveal the operations of the firm supplying the information.

Summaries of Written Submissions: Persons wishing to have a summary of their position included in the report should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: August 21, 2020.
William Bishop,
Supervisory Hearings and Information Officer.

[FR Doc. 2020-18796 Filed 8-25-20; 8:45 am]

BILLING CODE 7020-02-P